NUCLEAR REGULATORY COMMISSION

Sunshine Act; Meeting

AGENCY HOLDING THE MEETINGS: Nuclear Regulatory Commission.

DATE: Weeks of November 14, 21, 28, December 5, 12, 19, 2005.

PLACE: Commissioners' Conference Room, 11555 Rockville Pike, Rockville, Maryland.

STATUS: Public and Closed.

Matters To Be Considered:

Week of November 14, 2005

There are no meetings scheduled for the Week of November 14, 2005.

Week of November 21, 2005—Tentative

Monday, November 21, 2005

9:25 a.m. Affirmation Session (Public Meeting) (Tentative)

a. U.S. Department of Energy (High Level Waste Repository: Pre-Application Matters); NRC staff request for stay of LBP—05-27 (Tentative).

b. Louisiana Energy Services, L.P. (National Enrichment Facility) Remaining Claims in Petition for Review of LBP-05-13 (Environmental Contentions) (Tentative).

9:30 a.m. Briefing on Status of New Reactor Issues, Part 1 (Public Meeting); (Contact: Laura Dudes, 301-415-0146)

This meeting will be webcast live at the Web address— http://www.nrc.gov

1:30 p.m. Briefing on Status of New Reactor Issues, Part 2 (Public Meeting); (Contact: Laura Dudes, 301-415-0146)

This meeting will be webcast live at the Web address— http://www.nrc.gov.

Week of November 28, 2005—Tentative

Tuesday, November 29, 2005

9:30 a.m. Discussion of Management Issues (Closed-Ex. 2).

Wednesday, November 30, 2005

9:30 a.m. Briefing on EEO Program (Public Meeting); (Contact: Corenthis Kelley, 301-415-7380).

This meeting will be webcast live at the Web address— http://www.nrc.gov.

Week of December 5, 2005—Tentative

Thursday, December 8, 2005

1 p.m. Meeting with the Advisory Committee on Reactor Safeguards (ACRS); (Contact: John Larkins, 301-415-7360).

This meeting will be webcast live at the Web address— http://www.nrc.gov.

Week of December 12, 2005—Tentative

Monday, December 12, 2005

9:30 a.m. Discussion of Security Issues (Closed-Ex. 1).

Wednesday, December 14, 2005

1:30 p.m. Discussion of Security Issues (Closed—Ex. 1).

Thursday, December 15, 2005

1:30 p.m. Briefing on Threat Environment Assessment (Closed—Ex. 1).

Week of December 19, 2005—Tentative

There are not meetings scheduled for the Week of December 19, 2005.

*The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 9, 2005.
R. Michelle Schroll,
Office of the Secretary.

[FR Doc. 05-22796 Filed 11-14-05; 10:07 am]

BILLING CODE 7590-01-M